DEPARTMENT OF ENERGY

Hydrogen and Fuel Cell Technical Advisory Committee (HTAC)

AGENCY: Office of Energy Efficiency and Renewable Energy, Department of Energy.

ACTION: Notice of open meeting.

SUMMARY: This notice announces an open meeting of the Hydrogen and Fuel Cell Technical Advisory Committee (HTAC). The Federal Advisory Committee Act requires notice of the meeting be announced in the Federal Register.

DATES: Tuesday, February 13, 2018, 8:30 a.m.-5:45 p.m.

Wednesday, February 14, 2018, 8:00 a.m.-12:00 p.m.

ADDRESSES: National Renewable Energy Laboratory, 901 D Street SW, Suite 930, Washington, DC 20024.

FOR FURTHER INFORMATION CONTACT: Email: HTAC@nrel.gov or at the mailing address: Shawna McQueen, Designated Federal Officer, U.S. Department of Energy, Office of Energy Efficiency and Renewable Energy, 1000 Independence Avenue SW, EE-3F, Washington, DC 20585.

SUPPLEMENTARY INFORMATION:

Purpose of the Committee: The Hydrogen and Fuel Cell Technical Advisory Committee (HTAC) was established under section 807 of the Energy Policy Act of 2005 (EPACT), Public Law 109-58; 119 Stat. 849, to provide advice and recommendations to the Secretary of Energy on the program authorized by Title VIII of EPACT.

Tentative Agenda: (updates will be posted on the web at): http://hydrogen.energy.gov/advisory_htac.html).

• HTAC Business (including public comment period)

• DOE Leadership Updates

• Program and Budget Updates

• Updates from Federal/State Governments and Industry

• HTAC Subcommittee Updates

• Open Discussion Period

Public Participation: The meeting is open to the public. Individuals who would like to attend and/or to make oral statements during the public comment period must register no later than 5:00 p.m. on Monday, February 5, 2018, by email at HTAC@nrel.gov. Entry to the meeting room will be restricted to those who have confirmed their attendance in advance. Please provide your name, organization, citizenship, and contact information. Anyone attending the meeting will be required to present government-issued identification. Those wishing to make a public comment are required to register. The public comment period will take place between 8:30 a.m. and 8:45 a.m. on February 13, 2018. Time allotted per speaker will depend on the number who wish to speak but will not exceed five minutes. Those not able to attend the meeting or have insufficient time to address the committee are invited to send a written statement to HTAC@nrel.gov.

Minutes: The minutes of the meeting will be available for public review at http://hydrogen.energy.gov/advisory_htac.html.

Issued in Washington, DC, on December 7, 2017.
LaTanya R. Butler,
Deputy Committee Management Officer.

[FR Doc. 2017-26747 Filed 12-11-17; 8:45 am]

BILLING CODE 6450-01-P